ENVIRONMENTAL PROTECTION AGENCY

[EPA-HQ-2006-0099; FRL-8099-5]

Notice of Receipt of Requests for Amendments to Delete Uses in Certain Pesticide Registrations; Technical Correction

AGENCY: Environmental Protection Agency (EPA).

ACTION: Notice

.

SUMMARY: On September 1, 2006, EPA issued a Notice of Receipt of Requests for Amendments by Registrants to Delete Uses in Certain Pesticide Registrations. Section 6(f)(1) of FIFRA provides that a registrant of a pesticide product may at any time request that any of its pesticide registrations be amended to delete one or more uses. FIFRA further provides that, before acting on the request, EPA must publish a notice of receipt of any request in the Federal Register. The September 1 Notice inadvertently included a request to delete Guar (edible) Gums from EPA Registrations 47870-1, Propylene Oxide, 47870-2, Propylene Oxide Technical, and 47870-3, Propoxide 892. A request to delete Guar (edible) Gums from these three registrations was previously published on May 24, 2006. The terms of the May 24, 2006 Federal Register notice are controlling with respect to these three registrations.

DATES: Because this technical correction removes three use deletion requests, the effective date for the remaining use deletions remains unchanged from the September 1 Notice. The remaining deletions are effective February 28, 2007, unless the Agency receives a written withdrawal request on or before February 28, 2007. The Agency will consider a withdrawal request postmarked no later than February 28, 2007.

Users of these products who desire continued use on crops or sites being deleted should contact the applicable registrant on or before February 28, 2007.

ADDRESSES: Submit your withdrawal request, identified by docket identification (ID) number EPA-HQ-OPP-2006-0099, by one of the following methods:

• Mail: Attention: John Jamula, Information Technology and Resources Management Division (7502P), Office of Pesticide Programs, Environmental Protection Agency, 1200 Pennsylvania Ave., NW., Washington, DC 20460-0001.

• Delivery: OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is (703) 305-5805.

FOR FURTHER INFORMATION CONTACT: John Jamula, Information Technology and Resources Management Division (7502P), Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established a docket for this action under docket identification (ID) number EPA-HQ-OPP-2006-0099. Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. What Action is the Agency Taking?

This Notice corrects an error that was contained in a September 1 notice of receipt of request for amendments by registrants to delete uses in certain pesticide registrations (See http://www.epa.gov/fedrgstr/EPA-PEST/2006/September/Day-01/p7312.htm). The September 1 Notice inadvertently included a request to delete Guar (edible) Gums from EPA Registrations 47870-1, Propylene Oxide, 47870-2, Propylene Oxide Technical, and 47870-3, Propoxide 892. A request to delete Guar (edible) Gums from these three registrations was previously published on May 24, 2006. The terms of the May 24, 2006 Federal Register notice are controlling with respect to these three registrations. (See http://www.epa.gov/fedrgstr/EPA-PEST/2006/May/Day-24/p7832.htm).

List of Subjects

Environmental protection, Pesticides and pests.

Dated: October 4, 2006.
Robert Forrest,
Acting Director, Information Technology and Resources Management Division, Office of Pesticide Programs.

[FR Doc. E6-17227 Filed 10-17-06; 8:45 am]

BILLING CODE 6560-50-S